NUCLEAR REGULATORY COMMISSION

Notice of Availability of an Updated Version of the Guidance for Electronic Submissions to the NRC

AGENCY: Nuclear Regulatory Commission (NRC).

ACTION: Notice of availability.

SUMMARY: The latest revision of the Guidance for Electronic Submissions to the NRC (Revision 4) is now available for review. The document can be found under Submittal Instructions at http://www.nrc.gov/site-help/e-submittals.html. There are two significant changes to this document that are of interest to stakeholders. The first change covers the recommended file size for documents submitted to the NRC via the Electronic Information Exchange (EIE). In the past, the NRC suggested that the file size be limited to no more than 50 megabytes (MB). Based on operational experience, the NRC is modifying that recommendation and now suggests that files sent electronically to the NRC be no more than 15 MB. This revised guidance is intended to address issues that have arisen because of file size limitations and time-out problems associated with submitter's internet service providers. The second major change is to provide information regarding a new Meta-System Help Desk, which is being established to handle specific questions about electronic filing and portable document format (PDF) creation associated with general or adjudicatory (E-Filing) submissions, as well as to provide information regarding the various components of the agency's adjudicatory information technology/information management infrastructure, including the Licensing Support Network, the Electronic Hearing Docket, and the Digital Data Management System. The new Meta-System Help Desk, which will open on November 10, 2008, will operate on weekdays (excluding Federal Holidays) between 8 a.m. and 8 p.m. Eastern Time. The Meta-System Help Desk can be contacted by telephone at 1-866-672-7640 or by e-mail at MSHD.Resource@nrc.gov. The Public Document Room staff, which previously responded to EIE questions, is still available to answer general questions about accessing agency documents within ADAMS or on the NRC's public Web site.

FOR FURTHER INFORMATION CONTACT: For questions about the Guidance document: Thomas Smith, Information Management Specialist, Information and Records Services Division, Office of Information Services, U.S. Nuclear Regulatory Commission, Washington, DC 20555-0001. Telephone: 301-415-7043; e-mail: thomas.smith@nrc.gov. For questions about the Meta-System Help Desk: Ron Deavers, Project Manager, Business Process and Project Management Branch, Business Process Improvement and Applications Division, Office of Information Services, U.S. Nuclear Regulatory Commission, Washington, DC 20555-0001, Telephone: 301-415-7301; e-mail: ron.deavers@nrc.gov.

SUPPLEMENTARY INFORMATION: Documents related to this guidance, are available electronically at the NRC's Electronic Submittals Web page at http://www.nrc.gov/site-help/e-submittals.html.

Dated at Rockville, MD this 5th day of November 2008.
For the Nuclear Regulatory Commission.
Joseph J. Holonich,
Director, Information and Records Services Division, Office of Information Services.

[FR Doc. E8-26805 Filed 11-10-08; 8:45 am]

BILLING CODE 7590-01-P